DEPARTMENT OF TRANSPORTATION

Federal Aviation Administration

14 CFR Part 39

[Docket No. 2000-NM-315-AD; Amendment 39-11972; AD 2000-23-02]

RIN 2120-AA64

Airworthiness Directives; Bombardier Model CL-600-2B16 (CL-604) Series Airplanes

AGENCY: Federal Aviation Administration, DOT.

ACTION: Final rule; request for comments.

SUMMARY: This amendment adopts a new airworthiness directive (AD) that is applicable to certain Bombardier Model CL-600-2B16 (CL-604) series airplanes. This action requires, among other actions, a general visual inspection to detect gaps between the vane bracket(s) and the adjacent skin; corrective actions, if necessary; and replacement of the six flap vane actuator beams with new beams. This action is necessary to detect and correct corrosion of the inboard flap actuator beam assembly and gaps between the vane brackets and adjacent skin, which could compromise the structural integrity of the flap systems and reduce the controllability of the airplane in the event that a flap vane actuator or a flap vane bracket fails during flight. This action is intended to address the identified unsafe condition.

DATES: Effective November 29, 2000.

The incorporation by reference of certain publications listed in the regulations is approved by the Director of the Federal Register as of November 29, 2000.

Comments for inclusion in the Rules Docket must be received on or before December 14, 2000.

ADDRESSES: Submit comments in triplicate to the Federal Aviation Administration (FAA), Transport Airplane Directorate, ANM-114, Attention: Rules Docket No. 2000-NM-315-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via the Internet must contain “Docket No. 2000-NM-315-AD” in the subject line and need not be submitted in triplicate. Comments sent via fax or the Internet as attached electronic files must be formatted in Microsoft Word 97 for Windows or ASCII text.

The service information referenced in this AD may be obtained from Bombardier, Inc., Canadair, Aerospace Group, P.O. Box 6087, Station A, Montreal, Quebec H3C 3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: Serge Napoleon, Aerospace Engineer, Airframe and Propulsion Branch, ANE-171, FAA, New York Aircraft Certification Office, 10 Fifth Street, Third Floor, Valley Stream, New York; telephone (516) 256-7512; fax (516) 568-2716.

SUPPLEMENTARY INFORMATION: Transport Canada Civil Aviation (TCCA), which is the airworthiness authority for Canada, recently notified the FAA that an unsafe condition may exist on certain Bombardier Model CL-600-2B16 (CL-604) series airplanes. TCCA advises that it has received a report that, during a visual inspection of the flap systems, corrosion was found in the inboard flap actuator beam assembly, part number (P/N) 600-14250-25, as well as gaps between the vane brackets, P/N's 600-14306-1 and -2, and adjacent skin. Both of these discrepancies have been attributed to deficiencies in the manufacturing process. These conditions, if not corrected, could compromise the structural integrity of the flap systems and could reduce the controllability of the airplane in the event that a flap vane actuator or a flap vane bracket fails during flight.

Explanation of Relevant Service Information

Bombardier has issued Alert Service Bulletin A604-27-006, dated April 18, 2000. The service bulletin describes procedures for a general visual inspection to detect gaps between the vane bracket(s) and the adjacent skin; corrective actions, if necessary; replacement of the six flap vane actuator beams with new beams; and returning certain parts to the airplane manufacturer. The corrective actions involve performing a non-destructive inspection to detect cracks of the vane brackets; replacing any cracked vane bracket with a new vane bracket; eliminating the gap by filling the gap with liquid shim or installing a solid shim, as applicable; and repairing the gap. Accomplishment of the action specified in the service bulletin is intended to adequately address the identified unsafe condition. The TCCA classified this service bulletin as mandatory and issued Canadian airworthiness directive CF-2000-18, dated July 11, 2000, in order to assure the continued airworthiness of these airplanes in Canada.

FAA's Conclusions

This airplane model is manufactured in Canada and is type certificated for operation in the United States under the provisions of section 21.29 of the Federal Aviation Regulations (14 CFR 21.29) and the applicable bilateral airworthiness agreement. Pursuant to this bilateral airworthiness agreement, the TCCA has kept the FAA informed of the situation described above. The FAA has examined the findings of the TCCA, reviewed all available information, and determined that AD action is necessary for products of this type design that are certificated for operation in the United States.

Explanation of Requirements of Rule

Since an unsafe condition has been identified that is likely to exist or develop on other airplanes of the same type design registered in the United States, this AD is being issued to detect and correct corrosion of the inboard flap actuator beam assembly and gaps between the vane brackets and adjacent skin, which could compromise the structural integrity of the flap systems and could reduce the controllability of the airplane in the event that a flap vane actuator or a flap vane bracket fails during flight. This AD requires accomplishment of the action specified in the service bulletin described previously, except as discussed below.

This AD also requires operators to return certain parts and submit a data report of those parts to the airplane manufacturer. The FAA finds that these actions are necessary to determine if further rulemaking is needed.

Differences Between Proposed Rule and Service Bulletin

Operators should note that, although the service bulletin specifies that the manufacturer may be contacted for disposition of certain repair conditions, this proposal would require the repair of those conditions to be accomplished in accordance with a method approved by either the FAA, or the TCCA (or its delegated agent). In light of the type of repair that would be required to address the identified unsafe condition, and in consonance with existing bilateral airworthiness agreements, the FAA has determined that, for this proposed AD, a repair approved by either the FAA or the TCCA would be acceptable for compliance with this proposed AD.

Interim Action

This is considered to be interim action until final action is identified, at which time the FAA may consider further rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire.

Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-315-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-23-02 Bombardier Inc. (Formerly Canadair): Amendment 39-11972. Docket 2000-NM-315-AD.

Applicability: Model CL-600-2B16 (CL-604) series airplanes, serial numbers 5301 through 5374 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To detect and correct corrosion of the inboard flap actuator beam assembly and gaps between the vane brackets and adjacent skin, which could compromise the structural integrity of the flap systems and reduce the controllability of the airplane in the event that a flap vane actuator or a flap vane bracket fails during flight, accomplish the following:

General Visual Inspection

(a) Do a general visual inspection to detect gaps between the vane bracket(s), part number (P/N) 600-14306-1 and -2, and the adjacent skin, per paragraph “2. Accomplishment Instructions,” of Bombardier Alert Service Bulletin A604-27-006, dated April 18, 2000; at the time specified in paragraph (a)(1), (a)(2), or (a)(3) of this AD, as applicable.

(1) For airplanes having serial numbers 5301 through 5334 inclusive: Within 30 days after the effective date of this AD.

(2) For airplanes having serial numbers 5335 through 5354 inclusive: Within 90 days after the effective date of this AD.

(3) For airplanes having serial numbers 5355 through 5374 inclusive: Within 180 days after the effective date of this AD.

Note 2: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Corrective Actions if Any Gap Is Found

(b) If any gap is found during the general visual inspection required by paragraph (a) of this AD, before further flight, perform a non-destructive inspection to detect cracks of the vane bracket, per paragraph “2. Accomplishment Instructions,” of Bombardier Alert Service Bulletin A604-27-006, dated April 18, 2000.

(1) If any crack is detected, before further flight, replace the cracked vane bracket with a new vane bracket per the service bulletin.

(2) If no crack is detected and if the gap is up to 0.100 inch (2.54 mm), eliminate the gap by filling the gap with liquid shim or installing a solid shim, as applicable, per the service bulletin.

(3) If no crack is detected and if the gap is more than 0.100 inch (2.54 mm), before further flight, repair in accordance with a method approved by the Manager, New York Aircraft Certification Office (ACO), FAA; or the Transport Canada Civil Aviation, (or its delegated agent). For a repair method to be approved by the Manager, New York ACO, as required by this paragraph, the Manager's approval letter must specifically reference this AD.

Replacement of Six Flap Vane Actuator Beams

(c) Replace the six flap vane actuator beams with new beams, per paragraph “2. Accomplishment Instructions,” of Bombardier Alert Service Bulletin A604-27-006, dated April 18, 2000; at the time specified in paragraph (a)(1), (a)(2), or (a)(3) of this AD, as applicable.

(1) For airplanes having serial numbers 5301 through 5334 inclusive: Within 30 days after the effective date of this AD.

(2) For airplanes having serial numbers 5335 through 5354 inclusive: Within 90 days after the effective date of this AD.

(3) For airplanes having serial numbers 5355 through 5374 inclusive: Within 180 days after the effective date of this AD.

Return of Parts

(d) Within 30 days after doing the replacement required by paragraph (c) of this AD, forward any cracked vane bracket and any two of the six removed flap vane actuator assemblies to Bombardier, per paragraph “2. Accomplishment Instructions,” of Bombardier Alert Service Bulletin A604-27-006, dated April 18, 2000. Data, such as the station location of the flap actuator beam assembly, the number of flight hours and landings of the airplane at removal, must be submitted along with the flap vane actuator beam assemblies. Information collection requirements contained in this regulation have been approved by the Office of Management and Budget (OMB) under the provisions of the Paperwork Reduction Act of 1980 (44 U.S.C. 3501 et seq.) and have been assigned OMB Control Number 2120-0056.

Alternative Methods of Compliance

(e) An alternative method of compliance or adjustment of the compliance time that provides an acceptable level of safety may be used if approved by the Manager, New York ACO. Operators shall submit their requests through an appropriate FAA Principal Maintenance Inspector, who may add comments and then send it to the Manager, New York ACO.

Note 3: Information concerning the existence of approved alternative methods of compliance with this AD, if any, may be obtained from the New York ACO.

Special Flight Permits

(f) Special flight permits may be issued in accordance with sections 21.197 and 21.199 of the Federal Aviation Regulations (14 CFR 21.197 and 21.199) to operate the airplane to a location where the requirements of this AD can be accomplished.

Incorporation by Reference

(g) Except as provided in paragraph (b)(3) of this AD, the actions shall be done in accordance with Bombardier Alert Service Bulletin A604-27-006, dated April 18, 2000. This incorporation by reference was approved by the Director of the Federal Register in accordance with 5 U.S.C. 552(a) and 1 CFR part 51. Copies may be obtained from Bombardier, Inc., Canadair, Aerospace Group, P.O. Box 6087, Station A, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 4: The subject of this AD is addressed in Canadian airworthiness directive CF-2000-18, dated July 11, 2000.

Effective Date

(h) This amendment becomes effective on November 29, 2000.

Issued in Renton, Washington, on November 3, 2000.
Donald L. Riggin,
Acting Manager, Transport Airplane Directorate, Aircraft Certification Service.

[FR Doc. 00-28830 Filed 11-13-00; 8:45 am]

BILLING CODE 4910-13-U